DEPARTMENT OF ENERGY

Federal Energy Regulatory Commission

Combined Notice of Filings #1

Take notice that the Commission received the following electric rate filings:

Docket Numbers: ER19-34-002.

Applicants: Midcontinent Independent System Operator, Inc.

Description: Compliance filing: 2019-04-16_Compliance re MISO Pseudo-Tie Congestion Overlap Phase 2 Filing to be effective 3/1/2019.

Filed Date: 4/16/19.

Accession Number: 20190416-5006.

Comments Due: 5 p.m. ET 5/7/19.

Docket Numbers: ER19-1392-001.

Applicants: High Lonesome Mesa Wind, LLC.

Description: Tariff Amendment: Amendment to the High Lonesome Mesa Wind, LLC Application for Market-Based Rates to be effective 5/20/2019.

Filed Date: 4/15/19.

Accession Number: 20190415-5263.

Comments Due: 5 p.m. ET 5/6/19.

Docket Numbers: ER19-1577-000.

Applicants: Kearny Mesa Storage, LLC.

Description: Baseline eTariff Filing: Application for Market Based Rate to be effective 6/15/2019.

Filed Date: 4/16/19.

Accession Number: 20190416-5054.

Comments Due: 5 p.m. ET 5/7/19.

Docket Numbers: ER19-1578-000.

Applicants: California Independent System Operator Corporation.

Description: § 205(d) Rate Filing: 2019-04-16 Certificate of Concurrence for UFA Sunshine Valley, SCE & CAISO to be effective 2/21/2019.

Filed Date: 4/16/19.

Accession Number: 20190416-5112.

Comments Due: 5 p.m. ET 5/7/19.

Docket Numbers: ER19-1579-000.

Applicants: Southwest Power Pool, Inc.

Description: § 205(d) Rate Filing: Revisions to Implement Generator Interconnection Three-Stage Study Process to be effective 7/1/2019.

Filed Date: 4/16/19.

Accession Number: 20190416-5131.

Comments Due: 5 p.m. ET 5/7/19.

Docket Numbers: ER19-1580-000.

Applicants: El Paso Electric Company.

Description: Notice of Termination of Large Generator Interconnection Agreement of El Paso Electric Company.

Filed Date: 4/16/19.

Accession Number: 20190416-5130.

Comments Due: 5 p.m. ET 5/7/19.

Docket Numbers: ER19-1581-000.

Applicants: New York Independent System Operator, Inc.

Description: § 205(d) Rate Filing: 205 filing of Fixed Price TCC Credit requirement to be effective 6/18/2019.

Filed Date: 4/16/19.

Accession Number: 20190416-5134.

Comments Due: 5 p.m. ET 5/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2019.
Nathaniel J. Davis, Sr.,
Deputy Secretary.

[FR Doc. 2019-08008 Filed 4-19-19; 8:45 am]

BILLING CODE 6717-01-P